DEPARTMENT OF ENERGY

Federal Energy Regulatory Commission

[Project No. 14718-000]

Grafton Hydro, LLC; Notice of Preliminary Permit Application Accepted for Filing and Soliciting Comments, Motions To Intervene, and Competing Applications

On October 9, 2015, Grafton Hydro, LLC filed an application for a preliminary permit, pursuant to section 4(f) of the Federal Power Act (FPA), proposing to study the feasibility of the Lebanon-Mascoma Hydroelectric Project (Lebanon-Mascoma Project or project) to be located on Mascoma River in the city of Lebanon, Grafton County, New Hampshire. The sole purpose of a preliminary permit, if issued, is to grant the permit holder priority to file a license application during the permit term. A preliminary permit does not authorize the permit holder to perform any land-disturbing activities or otherwise enter upon lands or waters owned by others without the owners' express permission.

The proposed project would include two developments. Development 1 would be located near the downtown section of the city of Lebanon and Development 2 would be located at the existing Mascoma Lake dam. Development 1 would consist of: (1) A new 110-foot-long, reinforced concrete dam with a 60-foot-long, bottom-hinged, operable crest spillway; (2) a new impoundment with a surface area of less than 2 acres and a normal volume of less than 10 acre-feet; (3) a 1,200-foot-long, 7-foot-diameter, steel penstock; (4) a new 40-foot-long, 30-foot-wide, reinforced concrete powerhouse containing a new 2,000-horsepower Kaplan-type turbine and a new 1,500-kilowatt (kW) synchronous generator; (5) an approximately 500-foot-long transmission line connecting the generator to a 2.0 kilovolt amps (kVA) transformer; and (6) appurtenant facilities.

Development 2 would consist of: (1) The existing 18-foot-high, 575-foot-long concrete gravity Mascoma Lake dam with four 6-foot-wide outlet gates, seven 35-foot-wide stoplog bays, and a 125-foot-long overflow spillway; (2) the existing 1,158-acre Mascoma Lake impoundment; (3) a new 40-foot-long, 30-foot-wide, reinforced concrete powerhouse containing four 150-horsepower, horizontal axis, propeller-type turbines, each with a 150-kW asynchronous generator; (4) an approximately 500-foot-long transmission line connecting the generators to a 1.0-kVA transformer; and (5) appurtenant facilities. The estimated annual generation of the project would be 6,500 megawatt-hours. The existing Mascoma Lake dam and impoundment are owned and operated by the New Hampshire Department of Environmental Services.

Applicant Contact: Mr. Thomas Tarpey, Grafton Hydro, LLC, 55 Union Street, 4th Floor, Boston, MA 02108; phone: (617) 710-1114.

FERC Contact: Bill Connelly; phone: (202) 502-8587 or email: william.connelly@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14718-000.

More information about this project, including a copy of the application, can be viewed or printed on the “eLibrary” link of the Commission's Web site at http://www.ferc.gov/docs-filing/elibrary.asp. Enter the docket number (P-14718) in the docket number field to access the document. For assistance, contact FERC Online Support.

Dated: November 2, 2015.
Nathaniel J. Davis, Sr.,
Deputy Secretary.

[FR Doc. 2015-28394 Filed 11-6-15; 8:45 am]

BILLING CODE 6717-01-P